DEPARTMENT OF LABOR

Employment Standards Administration

Proposed Extension of the Approval of Information Collection Requirements

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposal to extend OMB approval of the information collection: Employee Polygraph Protection Act Regulations 29 CFR part 801. A copy of the proposed information collection request can be obtained by contacting the office listed below in the addresses section of this Notice.

DATES: Written comments must be submitted to the office listed in the addresses section below on or before June 30, 2008.

ADDRESSES: Mr. Steve Andoseh, U.S. Department of Labor, 200 Constitution Ave., NW., Room S-3201, Washington, DC 20210, telephone (202) 693-0373, fax (202) 693-1451, E-mail andoseh.steven@dol.gov. Please use only one method of transmission for comments (mail, fax, or E-mail).

SUPPLEMENTARY INFORMATION:

I. Background

The Employee Polygraph Protection Act of 1988 (EPPA), 29 U.S.C. 2001 et seq., prohibits most private employers from using any lie detector tests either for pre-employment screening or during the course of employment. See 29 CFR 801.1(a). Federal, State and local government employers are exempted from the Act. Id. EPPA section 7 contains several limited exemptions authorizing polygraph tests under certain conditions, including testing: (1) By the Federal Government of experts, consultants or employees of Federal contractors, to name a few, engaged in national security intelligence or counterintelligence functions [29 U.S.C. 2006(b)-(c); 29 CFR 801.11]; (2) of employees the employer reasonably suspects of involvement in a workplace incident resulting in economic loss or injury to the employer's business [29 U.S.C. 2006(d); 29 CFR 801.12]; (3) of some current and prospective employees of certain firms authorized to manufacture, distribute or dispense controlled substances [29 U.S.C. 2006(f); 29 CFR 801.13]; and (4) of some prospective employees of private armored car, security alarm and security guard firms [29 U.S.C. 2006(e); 29 CFR 801.14]. The DOL's Wage and Hour Division may assess civil money penalties of up to $10,000 per violation against employers who violate any EPPA provision. See 29 U.S.C. 2005(a); 29 CFR 801.40(a)(2). EPPA section 5 requires the Secretary of Labor to promulgate such rules and regulations as may be necessary to carry out the Act and to require the recordkeeping necessary or appropriate for administration of the Act. See 29 U.S.C. 2004(a); 29 CFR 801.1(a), 801.30. Appendix A of Regulations 29 CFR part 801 contains a written statement setting forth both the examinee's and employer's legal rights for use in satisfying the EPPA section 8(b)(2)(d) disclosure requirement. Employers may use optional Form WH-1481 to provide this notice. This information collection is currently approved for use through October 31, 2008.

II. Review Focus

The DOL is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The DOL seeks approval for the extension of this currently approved information collection in order to carry out its responsibility to ensure that individuals subjected to polygraph testing are afforded the rights and protections contained in the EPPA.

Type of Review: Extension.

Agency: Employment Standards Administration.

Title: Employee Polygraph Protection Act.

OMB Number: 1215-0170.

Agency Number: WH-1481.

Affected Public: Business or other for-profit, not-for-profit institutions, farms.

Total Respondents: 328,000.

Total Annual Responses: 328,000.

Estimated Time per Response: Varies from 1 minute to 30 minutes, depending on the notice.

Estimated Total Burden Hours: 68,738.

Frequency: On occasion (recordkeeping, reporting, third-party disclosure).

Total Burden Cost (capital/startup): $0.

Total Burden Cost (operating/maintenance): $0.

Comments submitted in response to this notice will be summarized and/or included in the request for Office of Management and Budget approval of the information collection request; they will also become a matter of public record.

Dated: April 24, 2008.
Steve Andoseh,
Acting Chief, Branch of Management Review and Internal Control, Division of Financial Management, Office of Management, Administration and Planning, Employment Standards Administration.

[FR Doc. E8-9308 Filed 4-28-08; 8:45 am]

BILLING CODE 4510-27-P